INTERNATIONAL TRADE COMMISSION

[Investigation Nos. 731-TA-1014, 1016, and 1017 (Second Review)]

Polyvinyl Alcohol From China, Japan, and Korea

Determinations

On the basis of the record ¹ developed in the subject five-year reviews, the United States International Trade Commission (“Commission”) determines, pursuant to the Tariff Act of 1930, that revocation of the antidumping duty orders on polyvinyl alcohol from China and Japan would be likely to lead to continuation or recurrence of material injury to an industry in the United States within a reasonably foreseeable time and that revocation of the antidumping duty order on polyvinyl alcohol from Korea would not be likely to lead to continuation or recurrence of material injury to an industry in the United States within a reasonably foreseeable time.

¹ The record is defined in sec. 207.2(f) of the Commission's Rules of Practice and Procedure (19 CFR 207.2(f)).

Background

The Commission, pursuant to section 751(c) of the Tariff Act of 1930 (19 U.S.C. 1675(c)), instituted these reviews on March 3, 2014 (79 FR 11821) and determined on June 6, 2014 that it would conduct full reviews (79 FR 69127, November 20, 2014). Notice of the scheduling of the Commission's reviews and of a public hearing to be held in connection therewith was given by posting copies of the notice in the Office of the Secretary, U.S. International Trade Commission, Washington, DC, and by publishing the notice in the Federal Register on November 20, 2014 (79 FR 69127) (schedule revision published on February 5, 2015 (80 FR 6546)). The hearing, which was scheduled by the Commission to be held in Washington, DC, on March 10, 2015, was cancelled by the Commission at the request of the domestic interested parties (80 FR 13024, March 12, 2015).

The Commission made these determinations pursuant to section 751(c) of the Tariff Act of 1930 (19 U.S.C. 1675(c)). It completed and filed its determinations in these reviews on May 12, 2015. The views of the Commission are contained in USITC Publication 4533 (May 2015), entitled Polyvinyl Alcohol from China, Japan, and Korea: Investigation Nos. 731-TA-1014, 1016, and 1017 (Second Review).

By order of the Commission.
Issued: May 12, 2015.
Lisa R. Barton,
Secretary to the Commission.

[FR Doc. 2015-11910 Filed 5-15-15; 8:45 am]

BILLING CODE 7020-02-P